ENVIRONMENTAL PROTECTION AGENCY

[FRL—9901-26-OA]

Notification of a Public Meeting of the Science Advisory Board Panel for the Review of the EPA Water Body Connectivity Report

AGENCY: Environmental Protection Agency (EPA).

ACTION: Notice.

SUMMARY: The EPA Science Advisory Board (SAB) Staff Office announces a public meeting of the SAB Panel to conduct a review of the EPA draft report, Connectivity of Streams and Wetlands to Downstream Waters: A Review and Synthesis of the Scientific Evidence (September, 2013 External Review Draft, EPA/600/R-11/098B).

DATES: The public meeting will be held on Monday December 16, 2013 from 9:00 a.m. to 5:00 p.m., Tuesday December 17, 2013 from 8:30 a.m. to 5:00 p.m., and Wednesday December 18, 2013 from 8:30 a.m. to 1:00 p.m. (Eastern Time).

ADDRESSES: The public meeting will be held at the Washington Plaza Hotel, 10 Thomas Circle, NW., Washington, DC 20005.

FOR FURTHER INFORMATION CONTACT: Any member of the public who wants further information concerning the public meeting may contact Dr. Thomas Armitage, Designated Federal Officer (DFO), EPA Science Advisory Board Staff Office (1400R), U.S. Environmental Protection Agency, 1200 Pennsylvania Avenue NW., Washington, DC 20460; via telephone at (202) 564-2155 or via email at armitage.thomas@epa.gov. General information concerning the SAB can be found on the EPA Web site at http://www.epa.gov/sab.

SUPPLEMENTARY INFORMATION: The SAB was established pursuant to the Environmental Research, Development, and Demonstration Authorization Act (ERDDAA), codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB Panel for the Review of the EPA Water Body Connectivity Report will hold a public meeting to conduct a review of the EPA's draft report, Connectivity of Streams and Wetlands to Downstream Waters: A Review and Synthesis of the Scientific Evidence (September, 2013 External Review Draft, EPA/600/R-11/098B). This SAB panel will provide advice to the Administrator through the chartered SAB.

Background

The EPA's Office of Research and Development (ORD) has developed a draft report reviewing and synthesizing the peer-reviewed scientific literature on the connectivity or isolation of streams and wetlands relative to large water bodies such as rivers, lakes, estuaries and oceans. The purpose of the report, Connectivity of Streams and Wetlands to Downstream Waters: A Review and Synthesis of the Scientific Evidence (September, 2013 External Review Draft, EPA/600/R-11/098B), is to summarize the current understanding about these connections, the factors that influence them, and the mechanisms by which connected waters singly or in aggregate, affect the function of downstream waters.

The SAB Staff Office announced to the public through a Federal Register notice published on March 8, 2013 (78 FR 15012—15013) that it was soliciting nominations of scientific experts to serve on the SAB Panel for the Review of the EPA Water Body Connectivity Report. Information about the formation of this SAB Panel can be found on the SAB Web site at http://yosemite.epa.gov/sab/sabproduct.nsf/fedrgstr_activites/Watershed%20Connectivity%20Report?OpenDocument.

Technical Contact for EPA's Draft Report: Any technical questions concerning EPA's draft report should be directed to Dr. Laurie Alexander, National Center for Environmental Assessment, Office of Research and Development, U.S. EPA, 1200 Pennsylvania Avenue NW., Mail Code 8623P, Washington, DC 20460, telephone (703) 347-8630 or via email at alexander.laurie@epa.gov.

Availability of Meeting Materials: The draft EPA report, Connectivity of Streams and Wetlands to Downstream Waters: A Review and Synthesis of the Scientific Evidence (September, 2013 External Review Draft, EPA/600/R-11/098B), and the charge to the SAB Panel are available on the SAB Web site at http://yosemite.epa.gov/sab/sabproduct.nsf/fedrgstr_activites/Watershed%20Connectivity%20Report?OpenDocument. The agenda and other meeting materials will be available on the SAB Web site at the URL listed above prior to the meeting.

Procedures for Providing Public Input: Public comment for consideration by EPA's federal advisory committees and panels has a different purpose from public comment provided to EPA program offices. The intended use of comments submitted to the SAB is different from the purpose of comments submitted to the EPA's program offices. Federal advisory committees and panels, including scientific advisory committees, provide independent advice to EPA. Interested members of the public may submit relevant comments for the SAB Panel to consider pertaining to the review materials, including the charge to the Panel. Input from the public to the SAB Panel will have the most impact if it provides specific scientific or technical information or analysis for the SAB Panel to consider or if it relates to the clarity or accuracy of the technical information. Members of the public wishing to provide written comments may submit them to the EPA Docket electronically via www.regulations.gov, by email, by mail, by facsimile, or by hand delivery/courier. Please follow the detailed instructions provided in the written statements section of this notice.

Members of the public wishing to provide oral statements to the SAB Panel should contact the DFO directly. Oral Statements: In general, individuals or groups requesting an oral presentation at a public meeting will be limited to five minutes. Interested parties should contact Dr. Thomas Armitage, DFO, in writing (preferably via email) at the contact information noted above by December 9, 2013 to be placed on the list of public speakers for the meeting. Written Statements: Written statements for the December 16-18, 2013 meeting should be received in the EPA Docket by November 6, 2013 so that the information may be made available to the SAB Panel for its consideration. Written statements should be identified by Docket ID No. EPA-HQ-OA-2013-0582 and submitted to the Docket at www.regulations.gov by one of the following methods:

• www.regulations.gov: Follow the on-line instructions for submitting comments.

• Email: Docket_OEI@epa.gov: Include the docket number in the subject line of the message.

• Fax: (202) 566-9744

• Mail: Office of Environmental Information (OEI) Docket (Mail Code: 28221T), Docket ID No. EPA-HQ-OA-2013-0582, U.S. Environmental Protection Agency, 1200 Pennsylvania Ave. NW., Washington, DC 20460. The phone number is (202) 566-1752.

• Hand Delivery: The OEI Docket is located in the EPA headquarters Docket Center, Room 3334, EPA West Building, 1301 Constitution Ave. NW., Washington, DC. The EPA Docket Center Public Reading Room is open from 8:30 a.m. to 4:30 p.m., Monday through Friday, excluding legal holidays. The telephone number for the Public Reading Room is (202) 566-1744. Deliveries are only accepted during the docket's normal hours of operation, and special arrangements should be made for deliveries of boxed information.

Direct your comments to Docket ID No. EPA-HQ-OA-2013-0582. Please ensure that your comments are submitted by November 6, 2013. Comments received after that date will be marked late and may not be provided to the SAB Panel for consideration before the December 16-18 meeting. It is EPA's policy to include all comments received in the public docket without change and to make the comments available on-line at www.regulations.gov, including any personal information provided, unless a comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email directly to EPA without going through www.regulations.gov, your email address will be automatically captured and included as part of the comment that is placed in the public docket and made available on the Internet. If you submit an electronic comment, EPA recommends that you include your name and other contact information in the body of your comment and with any disk or CD-ROM you submit. If EPA cannot read your comments due to technical difficulties and cannot contact you for clarification, the SAB Panel may not be able to consider your comments. Electronic files should avoid the use of special characters and any form of encryption and be free of any defects or viruses. For additional information about EPA's public docket, visit the EPA Docket Center homepage at www.epa.gov/epahome/dockets.htm.

Documents in the docket are listed in the www.regulations.gov index. Although listed in the index, some information is not publicly available, e.g., CBI or other information whose disclosure is restricted by statute. Certain other material, such as copyrighted material will be publicly available only in hard copy. Publicly available docket materials are available either electronically at www.regulations.gov or in hard copy at the OEI Docket in the EPA Headquarters Docket Center.

Accessibility: For information on access or services for individuals with disabilities, please contact Dr. Thomas Armitage at the phone number or email address noted above, preferably at least ten days prior to the meeting to give EPA as much time as possible to process your request.

Dated: September 17, 2013.
Thomas H. Brennan,
Deputy Director, EPA Science Advisory Board Staff Office.

[FR Doc. 2013-23198 Filed 9-23-13; 8:45 am]

BILLING CODE 6560-50-P